INTERNATIONAL TRADE COMMISSION

[Inv. No. 337-TA-462]

Certain Plastic Molding Machines With Control Systems Having Programmable Operator Interfaces Incorporating General Purpose Computers, and Components Thereof II; Notice of Investigation

AGENCY: U.S. International Trade Commission.

ACTION: Institution of investigation pursuant to 19 U.S.C. 1337.

SUMMARY: Notice is hereby given that a complaint was filed with the U.S. International Trade Commission on July 19, 2001, under section 337 of the Tariff Act of 1930, as amended, 19 U.S.C. 1337, on behalf of Milacron Inc. of Cincinnati, Ohio. A corrected exhibit was filed on August 8, 2001. The complaint alleges violations of section 337 in the importation into the United States, the sale for importation, and the sale within the United States after importation of certain plastic molding machines with control systems having programmable operator interfaces incorporating general purpose computers, and components thereof, by reason of infringement of claims 1-4 and 9-13 of U.S. Letters Patent 5,062,052, as amended by Reexamination Certificate B1 5,062,052. The complaint further alleges that an industry in the United States exists as required by subsection (a)(2) of section 337.

The complainant requests that the Commission institute an investigation and, after the investigation, issue permanent exclusion orders and permanent cease and desist orders.

ADDRESSES: The complaint, except for any confidential information contained therein, is available for inspection during official business hours (8:45 a.m. to 5:15 p.m.) in the Office of the Secretary, U.S. International Trade Commission, 500 E Street, S.W., Room 112, Washington, D.C. 20436, telephone 202-205-2000. Hearing-impaired individuals are advised that information on this matter can be obtained by contacting the Commission's TDD terminal on 202-205-1810. Persons with mobility impairments who will need special assistance in gaining access to the Commission should contact the Office of the Secretary at 202-205-2000. General information concerning the Commission may be obtained by accessing its internet server (http://www.usitc.gov). The public record for this investigation may be viewed on the Commission's electronic docket (EDIS-ON-LINE) at http://dockets.usitc.gov/eol/public.

FOR FURTHER INFORMATION CONTACT: T. Spence Chubb, Esq., Office of Unfair Import Investigations, U.S. International Trade Commission, telephone 202-205-2575.

Authority: The authority for institution of this investigation is contained in section 337 of the Tariff Act of 1930, as amended, and in section 210.10 of the Commission's Rules of Practice and Procedure, 19 CFR 210.10 (2000).

Scope of Investigation

Having considered the complaint, the U.S. International Trade Commission, on August 16, 2001, Ordered That—

(1) Pursuant to subsection (b) of section 337 of the Tariff Act of 1930, as amended, an investigation be instituted to determine:

(a) whether there is a violation of subsection (a)(1)(B) of section 337 in the importation into the United States, the sale for importation, or the sale within the United States after importation of certain plastic molding machines with control systems having programmable operator interfaces incorporating general purpose computers, or components thereof, by reason of infringement of claim 1, 2, 3, 4, 9, 10, 11, 12, or 13 of U.S. Letters Patent 5,062,052, as amended by Reexamination Certificate B1 5,062,052, and whether there exists an industry in the United States as required by subsection (a)(2) of section 337.

(2) For the purpose of the investigation so instituted, the following are hereby named as parties upon which this notice of investigation shall be served:

(a) The complainant is—Milacron Inc., 2090 Florence Avenue, Cincinnati, Ohio 45206.

(b) The respondents are the following companies alleged to be in violation of section 337, and are the parties upon which the complaint is to be served:

Dr. Boy GmbH, Neschner Strasse 6, D-53577 Neustadt/Fernthal, Germany

Boy Machines Inc., 199 Phillips Road, Exton, Pennsylvania 19341

Cannon S.p.A., Via C. Colombo 49, I-20090 Trezzano s/Naviglio (Milano), Italy

Automata S.p.A., Via G. Carducci, 705, I-21042 Caronno,Pertusella (Va), Italy

Sandretto Industrie, S.p.A., Via E. De Amicis, 44, I-10097 Collegno (To), Italy

Sandretto USA, Inc., Tri-County Commerce Park, 2507 Lovi Road, Freedom, Pennsylvania 15042-9395

Sidel SA, Avenue de la Patrouille de France, Octeville-sur-Mer, B.P. 204, 76053 Le Havre Cedex, France

Sidel Inc., 5600 Sun Court, Norcross, Georgia 30092

Zoppas Industries S.p.A., Viale Venezia, 31, 31020 San Vendemiano (TV), Italy

SIPA Italia (Societa' Industrializzazione, Progettazione e Automazione), S.p.A., Via Caduti del Lavoro, 3, 31029 Vittorio Veneto (TV), Italy

SIPA North America, Inc., 3800 Camp Creek Parkway, Building 2400, Suite 106, Atlanta, Georgia 30331

(c) T. Spence Chubb, Esq., Office of Unfair Import Investigations, U.S. International Trade Commission, 500 E Street, SW., Room 401-F, Washington, DC 20436, who shall be the Commission investigative attorney, party to this investigation; and

(3) For the investigation so instituted, the Honorable Delbert R. Terrill, Jr. is designated as the presiding administrative law judge.

Responses to the complaint and the notice of investigation must be submitted by the named respondents in accordance with section 210.13 of the Commission's Rules of Practice and Procedure, 19 CFR 210.13. Pursuant to 19 CFR 201.16(d) and 210.13(a) of the Commission's Rules, such responses will be considered by the Commission if received not later than 20 days after the date of service by the Commission of the complaint and the notice of investigation. Extensions of time for submitting responses to the complaint will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter both an initial determination and a final determination containing such findings, and may result in the issuance of a limited exclusion order or a cease and desist order or both directed against such respondent.

Issued: August 17, 2001.
By order of the Commission.
Donna R. Koehnke,
Secretary.

[FR Doc. 01-21266 Filed 8-22-01; 8:45 am]

BILLING CODE 7020-02-P